DEPARTMENT OF VETERANS AFFAIRS

[OMB Control No. 2900-0610]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to designate an ecclesiastical endorsing official.

DATES: Written comments and recommendations on the proposed collection of information should be received on or before December 5, 2005.

ADDRESSES: Submit written comments on the collection of information to Ann W. Bickoff (193E1), Department of Veterans Affairs, 810 Vermont Avenue, NW., Washington, DC 20420 or e-mail: ann.bickoff@hq.med.va.gov. Please refer to “OMB Control No. 2900-0610” in any correspondence.

FOR FURTHER INFORMATION CONTACT: Ann W. Bickoff at (202) 273-8310 or fax (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Ecclesiastical Endorsing Organization, Request to Designate Ecclesiastical Endorsing Official, VA Form 10-0379.

OMB Control Number: 2900-0610.

Type of Review: Extension of a currently approved collection.

Abstract: The information collected on VA Form 10-0379 is used to assure that individuals employed by VA as chaplains are qualified to provide for the constitutional rights of veterans to free exercise of religion. Each applicant is required to submit an official statement (“ecclesiastical endorsement”) from their religion or faith group, certifying that they are in good standing with the faith group and are qualified to perform the full range of ministry required in a VA setting. VA uses this information to determine: (1) Who the faith group designates as its endorsing official(s); (2) whether the faith group provides ministry to a lay constituency; and (3) what is the constituency to which persons endorsed by this group may minister.

Affected Public: Business or other for-profit.

Estimated Annual Burden: 8 hours.

Estimated Average Burden per Respondent: 45 minutes.

Frequency of Response: On occasion.

Estimated Number of Respondents: 10.

Dated: September 22, 2005.
By direction of the Secretary.
Denise McLamb,
Program Analyst, Records Management Service.

[FR Doc. 05-19888 Filed 10-4-05; 8:45 am]

BILLING CODE 8320-01-P